DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cooperative Charting Programs.

OMB Control Number: 0648-0022.

Form Number(s): None.

Type of Request: Regular (revision and extension of a current information collection).

Number of Respondents: 600.

Average Hours per Response: 2-3.

Burden Hours: 2,540.

Needs and Uses: This request is for revision and extension of a current information collection.

The U.S. Power Squadrons and the U.S. Coast Guard Auxiliary members report observations of changes that require additions, corrections or revisions to Nautical Charts using a Web site to report the information. The information provided is used by NOAA National Ocean Service to maintain and prepare new additions that are used nationwide by commercial and recreational navigators. Revision: formerly a paper form was used for U.S Coast Guard auxiliary reporting, and now a Web site is used.

Affected Public: Individuals or households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 10, 2014.
Glenna Mickelson,
Management Analyst, Office of the Chief Information Officer.

[FR Doc. 2014-24686 Filed 10-16-14; 8:45 am]

BILLING CODE 3510-JE-P